DEPARTMENT OF ENERGY

Federal Energy Regulatory Commission

Combined Notice of Filings #1

Take notice that the Commission received the following electric corporate filings:

Docket Numbers: EC25-91-000.

Applicants: Berkshire Hathaway Inc.

Description: Application for Authorization Under Section 203 of the Federal Power Act of Berkshire Hathaway Inc.

Filed Date: 5/23/25.

Accession Number: 20250523-5300.

Comment Date: 5 p.m. ET 7/22/25.

Docket Numbers: EC25-93-000.

Applicants: NC Solar (Fund IV) Holdings II, LLC, SE1 Generation ABM, LLC, Albemarle Beach Solar, LLC.

Description: Joint Application for Authorization Under Section 203 of the Federal Power Act of Albemarle Beach Solar, LLC, et al.

Filed Date: 5/29/25.

Accession Number: 20250529-5353.

Comment Date: 5 p.m. ET 6/20/25.

Take notice that the Commission received the following exempt wholesale generator filings:

Docket Numbers: EG25-341-000.

Applicants: Waterloo Solar I, LLC.

Description: Waterloo Solar I, LLC submits Notice of Self-Certification of Exempt Wholesale Generator Status.

Filed Date: 5/30/25.

Accession Number: 20250530-5273.

Comment Date: 5 p.m. ET 6/20/25.

Take notice that the Commission received the following Complaints and Compliance filings in EL Dockets:

Docket Numbers: EL25-87-000.

Applicants: Independent Market Monitor for PJM v. Indicated Energy Efficiency Sellers.

Description: Complaint of Independent Market Monitor for PJM v. Indicated Energy Efficiency Sellers.

Filed Date: 5/29/25.

Accession Number: 20250529-5288.

Comment Date: 5 p.m. ET 6/30/25.

Take notice that the Commission received the following electric rate filings:

Docket Numbers: ER25-1921-000.

Applicants: PJM Interconnection, L.L.C.

Description: PJM Interconnection, L.L.C. submits Termination Notice of Two Tenaska Power Services Co., Service Agreements Nos. 221 and 222 under PJM 3rd Revised FERC Electric Tariff Volume No. 1.

Filed Date: 4/9/25.

Accession Number: 20250409-5188.

Comment Date: 5 p.m. ET 6/4/25.

Docket Numbers: ER25-2364-000.

Applicants: Southwestern Electric Power Company.

Description: 205(d) Rate Filing: Limited Revisions to SWEPCO Generation Formula Rates to be effective 5/29/2025.

Filed Date: 5/29/25.

Accession Number: 20250529-5309.

Comment Date: 5 p.m. ET 6/20/25.

Docket Numbers: ER25-2365-000.

Applicants: Midcontinent Independent System Operator, Inc.

Description: 205(d) Rate Filing: 2025-05-29_SA 4487 Sikeston Board of Municipal Utilities Att KK-1 Form to be effective 6/1/2025.

Filed Date: 5/29/25.

Accession Number: 20250529-5317.

Comment Date: 5 p.m. ET 6/20/25.

Docket Numbers: ER25-2366-000.

Applicants: Midcontinent Independent System Operator, Inc., Ameren Illinois Company.

Description: 205(d) Rate Filing: Ameren Illinois Company submits tariff filing per 35.13(a)(2)(iii: 2025-05-30_SA 4488 Ameren Illinois-Carlyle-IMEA WCA to be effective 7/30/2025.

Filed Date: 5/30/25.

Accession Number: 20250530-5013.

Comment Date: 5 p.m. ET 6/20/25.

Docket Numbers: ER25-2367-000.

Applicants: Midcontinent Independent System Operator, Inc., Ameren Illinois Company.

Description: 205(d) Rate Filing: Ameren Illinois Company submits tariff filing per 35.13(a)(2)(iii: 2025-05-30_SA 4489 Ameren Illinois-Roodhouse-IMEA WCA to be effective 7/30/2025.

Filed Date: 5/30/25.

Accession Number: 20250530-5016.

Comment Date: 5 p.m. ET 6/20/25.

Docket Numbers: ER25-2369-000.

Applicants: New England Power Pool Participants Committee.

Description: 205(d) Rate Filing: Jun 2025 Membership Filing to be effective 6/1/2025.

Filed Date: 5/30/25.

Accession Number: 20250530-5037.

Comment Date: 5 p.m. ET 6/20/25.

Docket Numbers: ER25-2370-000.

Applicants: PJM Interconnection, L.L.C.

Description: 205(d) Rate Filing: Amendment to ISA, Service Agreement No. 4668; Queue No. AA1-038 to be effective 7/30/2025.

Filed Date: 5/30/25.

Accession Number: 20250530-5047.

Comment Date: 5 p.m. ET 6/20/25.

Docket Numbers: ER25-2371-000.

Applicants: Southwest Power Pool, Inc.

Description: 205(d) Rate Filing: 2900R27 KMEA NITSA NOA to be effective 5/1/2025.

Filed Date: 5/30/25.

Accession Number: 20250530-5079.

Comment Date: 5 p.m. ET 6/20/25.

Docket Numbers: ER25-2372-000.

Applicants: Duke Energy Progress, LLC.

Description: Notice of Cancellation of Service Agreements Nos. 336, 392 and 393 of Duke Energy Progress, LLC.

Filed Date: 5/29/25.

Accession Number: 20250529-5355.

Comment Date: 5 p.m. ET 6/20/25.

Docket Numbers: ER25-2373-000.

Applicants: Southwest Power Pool, Inc.

Description: 205(d) Rate Filing: 1518R28 Arkansas Electric Cooperative Corp NITSA NOA) to be effective 5/1/2025.

Filed Date: 5/30/25.

Accession Number: 20250530-5109.

Comment Date: 5 p.m. ET 6/20/25.

Docket Numbers: ER25-2374-000.

Applicants: Duke Energy Carolinas, LLC.

Description: Notice of Cancellation of Service Agreements Nos. 562 and 563 of Duke Energy Carolinas, LLC under.

Filed Date: 5/29/25.

Accession Number: 20250529-5357.

Comment Date: 5 p.m. ET 6/20/25.

Docket Numbers: ER25-2375-000.

Applicants: Deseret Generation & Transmission Co-operative, Inc.

Description: 205(d) Rate Filing: 2025 RIA Annual Update to be effective 7/1/2025.

Filed Date: 5/30/25.

Accession Number: 20250530-5130.

Comment Date: 5 p.m. ET 6/20/25.

Docket Numbers: ER25-2376-000.

Applicants: Midcontinent Independent System Operator, Inc., Dairyland Power Cooperative.

Description: 205(d) Rate Filing: Dairyland Power Cooperative submits tariff filing per 35.13(a)(2)(iii: 2025-05-30_DPC Request for Transmission Rate Incentives to be effective 7/30/2025.

Filed Date: 5/30/25.

Accession Number: 20250530-5175.

Comment Date: 5 p.m. ET 6/20/25.

Docket Numbers: ER25-2377-000.

Applicants: Southern California Edison Company.

Description: 205(d) Rate Filing: 2nd Amended TIA, Ten West Link 500 kV Line (TOT784/RS FERC No. 532) to be effective 5/31/2025.

Filed Date: 5/30/25.

Accession Number: 20250530-5182.

Comment Date: 5 p.m. ET 6/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 30, 2025.
Carlos D. Clay,
Deputy Secretary.

[FR Doc. 2025-10212 Filed 6-4-25; 8:45 am]

BILLING CODE 6717-01-P